DEPARTMENT OF HEALTH AND HUMAN SERVICES

Centers for Disease Control and Prevention

[30Day-10-0739]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

CDC Oral Health Management Information System (OMB no. 0920-0739, exp. 6/30/2010)—Revision—Division of Oral Health, National Center for Chronic Disease Prevention and Health Promotion (NCCDPHP), Centers for Disease Control and Prevention (CDC).

Background and Brief Description

The CDC seeks to improve the oral health of the nation by targeting efforts to improve the infrastructure of state and territorial oral health departments, developing effective programs to improve the oral health of children and adults, and reducing health disparities among high-risk groups. Through a cooperative agreement program, CDC provides funding to oral health programs in states and territories.

The CDC collects information from awardees to support oral health program management, consulting and evaluation. The information collection is supported by an electronic management information system (MIS) known as the Management Overview for Logistics, Analysis, and Reporting (MOLAR) system. The MIS provides a centralized, standardized and searchable repository of information about each awardee's objectives, programmatic activities, performance indicators, and financial status.

CDC requests OMB approval to continue the electronic collection of information for three years. The information collected will continue to facilitate CDC's ability to monitor, evaluate, and compare individual programs; provide technical assistance to states and territories; share and disseminate lessons learned; assess and report aggregate information regarding the overall effectiveness of oral health infrastructure and capacity at the state and territorial level; and monitor national progress toward meeting Healthy People goals.

Information will be collected electronically twice per year. No changes to the MIS or the estimated burden per response are proposed. There is an increase in the total estimated annualized burden due to an increase in the number of CDC-funded oral health programs. There are no costs to respondents other than their time. The total estimated annualized burden hours are 462.

Estimated Annualized Burden Hours
Type of respondents | Number of respondents | Number of responses per respondent | Average burden per response (in hours)
State Oral Health Programs | 21 | 2 | 11

Dated: February 17, 2010.
Maryam I. Daneshvar,
Acting Reports Clearance Officer, Centers for Disease Control and Prevention.

[FR Doc. 2010-3866 Filed 2-24-10; 8:45 am]

BILLING CODE 4163-18-P